DEPARTMENT OF HEALTH AND HUMAN SERVICES

Health Resources and Services Administration

Advisory Council on Blood Stem Cell Transplantation; Notice of Meeting

In accordance with section 10(a)(2) of the Federal Advisory Committee Act (Pub. L. 92-463), notice is hereby given of the following meeting:

Name: Advisory Council on Blood Stem Cell Transplantation.

Date and Times: September 21, 2009, 8:30 a.m. to 4:30 p.m.

Place: Hyatt Regency Bethesda, One Bethesda Metro Center, Bethesda, Maryland 20814.

Status: The meeting will be open to the public.

Purpose: Pursuant to Public Law 109-129, 42 U.S.C. 274k (section 379 of the Public Health Service Act, as amended) the Advisory Council on Blood Stem Cell Transplantation (ACBSCT) advises the Secretary of HHS and the Administrator, HRSA, on matters related to the activities of the C.W. Bill Young Cell Transplantation Program (Program) and the National Cord Blood Inventory (NCBI) Program.

Agenda:

The Council will hear reports from three ACBSCT Work Groups: Informed Consent, Access to Transplantation, and Cord Blood Collections. The Council also will hear presentations and discussions on the following topics: Induced pluripotent stem cells and adult stem cells, National Marrow Donor Program Infrastructure Summit, Radiation Injury Treatment Network, and trends in post-transplant survival. Agenda items are subject to change as priorities indicate.

After the presentations and Council discussions, members of the public will have an opportunity to provide comments. Because of the Council's full agenda and the timeframe in which to cover the agenda topics, public comment will be limited. All public comments will be included in the record of the ACBSCT meeting. Meeting summary notes will be made available on the HRSA's Program Web site at http://bloodcell.transplant.hrsa.gov/ABOUT/Advisory_Council/index.html.

The draft meeting agenda and a registration form will be available on or about August 21, 2009, on the HRSA's Program Web site at http://bloodcell.transplant.hrsa.gov/ABOUT/Advisory_Council/index.html.

The completed registration form should be submitted by facsimile to Professional and Scientific Associates (PSA), the logistical support contractor for the meeting, at fax number (703) 234-1701 ATTN: Rebecca Pascoe. Registration can also be completed electronically at https://www.team-psa.com/dot/fall2009/acbsct. Individuals without access to the Internet who wish to register may call Rebecca Pascoe with PSA at (703) 234-1747.

FOR FURTHER INFORMATION CONTACT: Remy Aronoff, Executive Secretary, Healthcare Systems Bureau, Health Resources and Services Administration, 5600 Fishers Lane, Room 12-105, Rockville, Maryland 20857; telephone (301) 443-3264.

Dated: August 4, 2009.
Alexandra Huttinger,
Director, Division of Policy Review and Coordination.

[FR Doc. E9-19110 Filed 8-10-09; 8:45 am]

BILLING CODE 4165-15-P